DEPARTMENT OF COMMERCE

National Institute of Standards and Technology

National Voluntary Laboratory Accreditation Program Workshop for Laboratories Interested in the Personal Body Armor Testing Program

AGENCY: National Institute of Standards and Technology, Commerce.

ACTION: Notice of Public Workshop.

SUMMARY: The National Voluntary Laboratory Accreditation Program (NVLAP) will hold a public workshop on December 8, 2006, at the National Institute of Standards and Technology (NIST) headquarters in Gaithersburg, MD. The purpose of the workshop is the exchange of information among NVLAP, the NIST Office of Law Enforcement Standards (OLES), the National Institute of Justice's (NIJ) National Law Enforcement and Corrections Technology Center (NLECTC), laboratories interested in seeking accreditation for the testing of personal body armor, and other interested parties. The results of the workshop discussions will be used in the development of the NVLAP Personal Body Armor Program.

There is no charge for the workshop; however, because of security regulations, advance registration is mandatory. There will be no on-site, same-day registration. The registration deadline is Wednesday, December 6, 2006. Please note admittance instructions under the SUPPLEMENTARY INFORMATION section of this notice.

DATES: The workshop will be held on Friday, December 8, 2006, from 9 a.m. to 4:30 p.m.

ADDRESSES: The workshop will be held in the Administration Building (Building 101), Lecture Room B, National Institute of Standards and Technology, 100 Bureau Drive, Gaithersburg, MD, 20899.

FOR FURTHER INFORMATION CONTACT: Hazel M. Richmond, (301) 975-3024, e-mail: hazel.richmond@nist.gov. The mailing address is 100 Bureau Drive, Mail Stop 2140, Gaithersburg, MD, 20899-2140. Information regarding NVLAP and the accreditation process can be viewed at http://www.nist.gov/nvlap.

SUPPLEMENTARY INFORMATION: In response to a request from the U.S. Department of Justice (DOJ), National Institute of Justice (NIJ) and Office of Science and Technology, the NIST National Voluntary Laboratory Accreditation Program (NVLAP) is considering establishing an accreditation program for laboratories that test ballistic- and stab-resistant body armor models.

NVLAP accreditation criteria are established in accordance with the Code of Federal Regulations (CFR, title 15, Part 285), NVLAP Procedures and General Requirements. To be accredited by NVLAP, laboratories conducting testing of personal body armor will be required to meet ISO/IEC International Standard 17025, general requirements for the competence of testing and calibration laboratories. In addition, for each new laboratory accreditation program (LAP), NVLAP works with the affected testing community to develop program-specific technical requirements. These requirements tailor the general accreditation criteria referenced in Sections 4 and 5 of the NIST Handbook 150 to the test and services in the new LAP. Program-specific requirements include the details of the scope of accreditation, test and measurement equipment, personnel requirements, validation of test methods, and reporting of test results.

NVLAP accreditation does not imply any guarantee (certification) of laboratory performance or test/calibration data. NVLAP accreditation is a finding of laboratory competence. All visitors to the NIST site are required to pre-register to be admitted. Anyone wishing to attend this meeting must register by close of business Wednesday, December 6, 2006, in order to attend. Please submit your name, time of arrival, e-mail address and phone number to Hazel M. Richmond and she will provide you with instructions for admittance.

Non-U.S. citizens must also submit their country of citizenship, title, employer/sponsor, and address. Ms. Richmond's e-mail address is hazel.richmond@nist.gov and her phone number is (301) 975-3024.

Dated: November 16, 2006.
James E. Hill,
Acting Deputy Director.

[FR Doc. E6-19958 Filed 11-24-06; 8:45 am]

BILLING CODE 3510-13-P